FEDERAL MINE SAFETY AND HEALTH REVIEW COMMISSION

Sunshine Act Notice

Time and Date: 3 p.m., Thursday, August 12, 2010.

Place: The Richard V. Backley Hearing Room, 9th Floor, 601 New Jersey Avenue, NW., Washington, DC.

Status: Open.

Matters To Be Considered: The Commission will consider and act upon the following two cases in open session: Secretary of Labor on behalf of Mark Gray v. North Fork Coal Corp., Docket No. KENT 2009-1429-D; and Kevin Baird v. PCS Phosphate Co., SE 2010-74-DM. (Issues include whether a temporary reinstatement order remains in effect in situations where the Secretary of Labor subsequently determines that no violation of section 105(c) of the Mine Safety and Health Act has occurred.)

A majority of the Commission members have determined that agency business requires that no earlier notice of this meeting could be given.

Any person attending this meeting who requires special accessibility features and/or auxiliary aids, such as sign language interpreters, must inform the Commission in advance of those needs. Subject to 29 CFR 2706.150(a)(3) and 2706.160(d).

Contact Person For More Information: Jean Ellen, (202) 434-9950/(202) 708-9300 for TDD Relay/1-800-877-8339 for toll free.

August 5, 2010.
Jean H. Ellen,
Chief Docket Clerk.

[FR Doc. 2010-19874 Filed 8-6-10; 4:15 pm]

BILLING CODE P